DEPARTMENT OF THE INTERIOR

National Park Service

[NPS-WASO-NAGPRA-NPS0039835; PPWOCRADN0-PCU00RP14.R50000]

Notice of Inventory Completion: Troy University, Troy, AL

AGENCY: National Park Service, Interior.

ACTION: Notice.

SUMMARY: In accordance with the Native American Graves Protection and Repatriation Act (NAGPRA), Troy University has completed an inventory of human remains and associated funerary objects and has determined that there is a cultural affiliation between the human remains and associated funerary objects and Indian Tribes or Native Hawaiian organizations in this notice.

DATES: Repatriation of the human remains and associated funerary objects in this notice may occur on or after May 5, 2025.

ADDRESSES: Gabrielle C. Purcell, Archaeology Lab Coordinator, Troy University, 327 MSCX, Troy, AL 36082, telephone (334) 808-6771, email gpurcell@troy.edu and scarmody@troy.edu.

SUPPLEMENTARY INFORMATION: This notice is published as part of the National Park Service's administrative responsibilities under NAGPRA. The determinations in this notice are the sole responsibility of Troy University, and additional information on the determinations in this notice, including the results of consultation, can be found in its inventory or related records. The National Park Service is not responsible for the determinations in this notice.

Abstract of Information Available

Walnut Creek (1PK2)

Human remains representing, at least, 18 individuals have been identified. The 1,465 associated funerary objects are 1,227 pottery sherds, 10 stone tools, 177 lithic flakes, two quartz, 37 hematite, 10 lots of charcoal, one iron, and one ochre. The site is located in Pike County, Alabama near the city of Troy, and was excavated in 1975 by MacDonald Brooms of Troy University. Walnut Creek dates primarily to the Mississippian period. These human remains and associated funerary objects were then housed in the Troy University Archaeology Laboratory. No known hazardous substances were used to treat any of the human remains or associated funerary objects.

Unknown Site, Pike County, AL (1PK?)

Human remains representing, at least, seven individuals have been identified. No associated funerary objects are present. The human remains were given to Troy University by the Pioneer Museum of Alabama in Troy, Alabama in the 1990s or 2000s. The acquisition of these human remains by the Pioneer Museum is unknown but likely came from a site located in Pike County, Alabama. The date of this site is unknown. These human remains were then housed in the Troy University Forensics Laboratory. No known hazardous substances were used to treat any of the human remains.

Coosa River Survey (1EE?)

Human remains representing, at least, one individual have been identified. No associated funerary objects are present. The site is located in Elmore County, Alabama, along the Coosa River. Collection is believed to have been carried out by Troy University archaeologists during a surface collection survey. The date of collection and time period for the site are unknown. These human remains were then housed at the Troy University Archaeology Laboratory. No known hazardous substances were used to treat any of the human remains.

Hawley Money Pit (1HE?)

Human remains representing, at least, three individuals have been identified. The 20 associated funerary objects are two lithic flakes, 15 stones, two lots of oyster shell, and one green Coke-a-Cola bottle. The site is located in Henry County, Alabama near the city of Abbeyville, and was excavated in 2002 by MacDonald Brooms of Troy University. Hawley Money Pit possibly dates to the Mississippian period with some modern intrusion. These human remains and associated funerary objects were then housed in the Troy University Archaeology Laboratory. No known hazardous substances were used to treat any of the human remains or associated funerary objects.

Birmingham Police Department Find (1JE? Case No. 83BHO8328)

Human remains representing, at least, one individual have been identified. No associated funerary objects are present. The location is believed to be in Jefferson County, Alabama near Birmingham, and are believed to have been collected as a possible crime scene by the Birmingham Police Department in 1983. The time period of the site is unknown. These human remains were then housed in the Troy University Forensics Lab. No known hazardous substances were used to treat any of the human remains.

Honey Bluff (9BT?)

Human remains representing, at least, two individuals have been identified. No associated funerary objects are present. The site is believed to be located in Brantley County, Georgia. The date of excavation, the primary investigator, and the time period for Honey Bluff are unknown. These human remains were housed in the Troy University Archaeology Laboratory. No known hazardous substances were used to treat any of the human remains.

Cultural Affiliation

Based on the information available and the results of consultation, cultural affiliation is reasonably identified by the geographical location or acquisition history of the human remains and associated funerary objects described in this notice.

Determinations

Troy University has determined that:

• The human remains described in this notice represent the physical remains of 32 individuals of Native American ancestry.

• The 1,485 objects described in this notice are reasonably believed to have been placed intentionally with or near individual human remains at the time of death or later as part of the death rite or ceremony.

• There is a connection between the human remains and associated funerary objects described in this notice and the Alabama-Coushatta Tribe of Texas; Alabama-Quassarte Tribal Town; Coushatta Tribe of Louisiana; Mississippi Band of Choctaw Indians; Poarch Band of Creek Indians; and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after May 5, 2025. If competing requests for repatriation are received, Troy University must determine the most appropriate requestor prior to repatriation. Requests for joint repatriation of the human remains and associated funerary objects are considered a single request and not competing requests. Troy University is responsible for sending a copy of this notice to the Indian Tribes and Native Hawaiian organizations identified in this notice.

Authority: Native American Graves Protection and Repatriation Act, 25 U.S.C. 3003, and the implementing regulations, 43 CFR 10.10.

Dated: March 26, 2025.
Melanie O'Brien,
Manager, National NAGPRA Program.

[FR Doc. 2025-05808 Filed 4-3-25; 8:45 am]

BILLING CODE 4312-52-P